DEPARTMENT OF LABOR

Employment and Training Administration

Appointments to the Advisory Committee on Apprenticeship (ACA)

AGENCY: Employment and Training Administration, Labor.

ACTION: Notice of appointment of Chair and members.

SUMMARY: The Employment and Training Administration hereby announces the appointments of 30 members to fill vacancies on the Advisory Committee on Apprenticeship (ACA), an advisory board to the Secretary. The ACA which is authorized by Section 2 of the National Apprenticeship Act (29 U.S.C. 50) complies with the requirements of the Federal Advisory Committee Act (5 U.S.C., App. 1). The Committee will be an effective instrument for providing assistance, advice, and counsel to the Secretary of Labor and the Assistant Secretary for the Employment and Training Administration in the development and implementation of administration policies and programs regarding apprenticeship.

Members are appointed for one year or two year terms. Ten members represent labor, ten members represent employers, and ten members represent the public. The National Association of State and Territorial Apprenticeship Directors and the National Association of Governmental Labor Officials will have representation within the public group of the Committee. The Secretary shall appoint one of the public members as Chairperson of the Advisory Committee. A representative of the U.S. Department of Education and a representative of the Department of Commerce will be invited to serve as non-voting “ex-officio” members of the Committee. The Assistant Secretary of Labor for Employment and Training shall be a member ex-officio. The Designated Federal Official for the ACA is Mr. Anthony Swoope, Administrator of the Office of Apprenticeship, Training, Employer and Labor Services.

FOR FURTHER INFORMATION CONTACT: Mr. Anthony Swoope, Administrator, Office of Apprenticeship Training, Employer and Labor Services, Employment and Training Administration, U.S. Department of Labor, Room N-4649, 200 Constitution Avenue, NW., Washington, DC 20210. Telephone: (202) 693-2796, (this is not a toll-free number).

SUPPLEMENTARY INFORMATION: The following is a list of the Committee members by group:

Represents: Employers

Philip J. Anderson, President & CEO, Associated Builders & Contractors of Kentuckiana, Inc., Louisville, Kentucky.

Robert (Bob) W. Baird, Vice President, Apprenticeship and Training, Standards and Safety, Independent Electrical Contractors, Inc., Alexandria, Virginia.

Phyllis Eisen, Vice President, Manufacturers Institute, Washington, DC.

Julie A. Flik, Executive Vice President, Compass Group, North American Division, Rye Brook, New York.

Fred M. Haag, President, IRBY Construction, Jackson, Mississippi.

Kelvin D. Harrison, Technical Training Manager, Caterpillar Inc., East Peoria, Illinois.

Frederick N. Humphreys, President & CEO, Home Builders Institute, Washington, DC.

Stephen C. Mandes, Executive Director, National Institute for Metalworking Skills, Fairfax, Virginia.

Karen T. Soehner, Nursing Administrator, Avante at Ormond Beach Nursing and Rehabilitation Center, Ormond Beach, Florida.

Linda Maria Yu Bien, Acting Chief Executive Officer, North East Medical Services, Los Altos Hills, California.

Represents: Public

Sharon C. Chu, Attorney, Law Offices of Sharon C. Chu, Rockville, Maryland.

Arthur H. DeRosier, Jr., Billings, Montana.

Diane Enzi, Washington, DC.

Conrad H.C. Everhard, Palm Beach Gardens, Florida.

Thomas F. Hartnett (Chair), Meyer, Suozzi, English and Klein, PC, Albany, New York.

Mark Maki, President, National Association of State and Territorial Apprenticeship Directors, Helena, Montana.

Irving Pressley McPhail, Chancellor, The Community College of Baltimore County, Baltimore, Maryland.

Terrence P. O'Mahoney, Commissioner Representing Labor, Texas Workforce Commission, Austin, Texas.

James D. VanErden, Director, Workforce Development, Goodwill Industries, Bethesda, Maryland.

Vacancy.

Represents: Labor

Mark H. Ayers, Director, Construction & Maintenance, International Brotherhood of Electrical Workers, Washington, DC.

George H. Bliss, III, Director of Training, United Association of Journeymen & Apprentices of the Plumbing & Pipe Fitting Industry of the U.S. & Canada, Washington, DC.

Stephen A. Brown, Director, Construction Training Department, International Union of Operating Engineers, Washington, DC.

Dwight W. Duke, Director of Programs, Laborers-AGC Education and Training Fund, Pomfret Center, Connecticut.

John S. Gaal, Director of Training & Workforce Development, Carpenters' District Council of Greater St. Louis and Vicinity, Ballwin, Missouri.

Sonny Hall, President, Transport Workers Union of America, AFL-CIO, New York, New York.

Mark S. Johnson, National Training Director, International Brotherhood of Teamsters, Anchorage, Alaska.

Thaddeus R. Kuczynski , Executive Director, International Training Institute for the Sheet Metal Workers & Air Conditioning Industry, Alexandria, Virginia.

William V. Taylor, 4th District Vice President, International Association of Fire Fighters, Baltimore, Maryland.

Michael L. White, Executive Director of Apprenticeship and Training, International Union of Bridge, Structural, Ornamental and Reinforcing Iron Workers, Washington, DC.

Nominees were selected from employer or national employer associations; employees or national employees associations; religious, social welfare, academic, charitable organizations, community based organizations; national women's organizations, state or local government.

Signed at Washington, DC, this 30th day of April 2003.
Emily Stover DeRocco,
Assistant Secretary for Employment and Training Administration.

[FR Doc. 03-11131 Filed 5-5-03; 8:45 am]

BILLING CODE 4510-30-P